DEPARTMENT OF TRANSPORTATION

Federal Railroad Administration

Petition for Waiver of Compliance

In accordance with Part 211 of Title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

CSX Transportation

[Docket Number FRA-2000-7701]

The CSX Transportation (CSX) seeks a waiver of compliance for locomotives that operate (move over) hump yard retarders from the requirements of the Locomotive Safety Standards, 49 CFR Part 229.123, which requires each lead locomotive be equipped with an end plate, pilot plate, or snow plow, that extends across both rails at a maximum clearance of six inches. CSX indicates that due to the height of the retarders (2 ¾ inches over top of rail) it is not uncommon for locomotive pilots to strike the retarder. If the waiver is granted, CSX would increase the height of the pilot plates on locomotives assigned to hump yard service to nine inches, these locomotives would be restricted to trailing position outside hump yard and when moving over the railroad for service or re-assignment.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2000-7701) and must be submitted in triplicate to the Docket Clerk, DOT Central Docket Management Facility, Room PL-401, Washington, DC, 20590-0001. Communications received within 45 days of the date of this notice will be considered by FRA before final action is taken. Comments received after that date will be considered as far as practicable. All written communications concerning these proceedings are available for examination during regular business hours (9 a.m.-5 p.m.) at DOT Central Docket Management Facility, Room PL-401 (Plaza Level), 400 Seventh Street S.W., Washington, DC, 20590. All documents in the public docket are also available for inspection and copying on the Internet at the docket facility's Web site at http://dms.dot.gov.

Issued in Washington, DC on October 1, 2000.
Grady C. Cothen, Jr.,
Deputy Associate Administrator for Safety Standards and Program Development.

[FR Doc. 00-25630 Filed 10-4-00; 8:45 am]

BILLING CODE 4910-06-P